DEPARTMENT OF TRANSPORTATION

Federal Aviation Administration

Notice of Opportunity for Public Comment on a Proposed Change of Airport Property Land Use From Aeronautical To Non-Aeronautical Use at Russellville Regional Airport, Russellville, AR

AGENCY: Federal Aviation Administration (FAA), Transportation (DOT).

ACTION: Notice.

SUMMARY: The FAA is considering a request from the City of Russellville, Arkansas to change 39.14 acres, located on the northwest side of the airport bordered largely by East 16th Street and Airport Road, from aeronautical use to non-aeronautical use and to authorize the conversion of the airport property.

DATES: Comments must be received on or before May 13, 2022.

ADDRESSES: Send comments on this document to Mr. Glenn Boles, Federal Aviation Administration, Arkansas/Oklahoma Airports District Office Manager, 10101 Hillwood Parkway, Fort Worth, TX 76177. Email: Glenn.A.Boles@faa.gov.

FOR FURTHER INFORMATION CONTACT: Ms. Keith Frazier, Director, Russellville Regional Airport, 1759 Airport Road, Russellville, AR, telephone (479) 967-1227. Email: kfrazier@rsvlar.org; or Mr. Glenn Boles, Federal Aviation Administration, Arkansas/Oklahoma Airports District Office Manager, 10101 Hillwood Parkway, Fort Worth, TX 76177, telephone (817) 222-5639. Email: Glenn.A.Boles@faa.gov.

Documents reflecting this FAA action may be reviewed at the above locations.

SUPPLEMENTARY INFORMATION: The proposal consists of 39.14 acres of airport property (Tract 1) which is part of 306.12 acres that was purchased with Federal Aid in 1958 under FAA Grant 9-03-010-5901.

The land requested to be released for continued non-aeronautical use is outside of the forecasted need for aviation development and is not needed for indirect or direct aeronautical use. The Airport will retain ownership of this land and ensure the protection of Part 77 surfaces and compatible land use. The income from the conversion of these parcels will benefit the aviation community by reinvestment in the airport.

Approval does not constitute a commitment by the FAA to financially assist in the conversion of the subject airport property nor a determination of eligibility for grant-in-aid funding from the FAA. The disposition of proceeds from the conversion of the airport property will be in accordance with FAA's Policy and Procedures Concerning the Use of Airport Revenue, published in the Federal Register on February 16, 1999. In accordance with section 47107(h) of Title 49, United States Code, this notice is required to be published in the Federal Register 30 days before modifying the land-use assurance that requires the property to be used for an aeronautical purpose.

Issued in Fort Worth, TX.
Ignacio Flores,
Director, Airports Division, FAA, Southwest Region.

[FR Doc. 2022-07900 Filed 4-12-22; 8:45 am]

BILLING CODE P